NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before September 10, 2007 (Note that the new time period for requesting copies has changed from 45 to 30 days after publication). Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: requestschedule@nara.gov.

FAX: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending (Note that the new time period for requesting copies has changed from 45 to 30 days after publication):

1. Department of Agriculture, Cooperative State Research, Education, and Extension Service (N1-540-07-3, 18 items, 18 temporary items). Records of the Office of Extramural Program Policy and Oversight, including audit, investigation, review, and reporting records; rulemaking records, opinions, and commentaries; policies, procedures, terms and conditions, memoranda of understanding, agreements, and requests for proposals relating to the awarding of grants; internal administrative policies and procedures; and working files. This schedule authorizes the agency to apply the proposed disposition instructions to any recordkeeping medium.

2. Department of Agriculture, Food Safety and Inspection Service (N1-462-05-7, 9 items, 9 temporary items). Records of the Environmental, Health and Safety Branch relating to emergency planning records. Included are emergency occupant plans, lockout and tagout procedures, health hazard reports, air contaminants monitoring exposure reports, industrial hygiene surveys, hearing conservation and hazard communication programs records, log reports on unsafe and unhealthful working conditions, and safety and workplace inspections.

3. Department of State, Bureau of Overseas Buildings Operations (N1-59-07-7, 1 item, 1 temporary item). Background information files used to analyze and monitor operations and prepare final internal review reports.

4. Department of State, Office of Civil Rights (N1-59-07-10, 3 items, 3 temporary items). Photographs, audio tapes, and video tapes relating to notables, and fragmentary textual files.

5. Environmental Protection Agency (N1-412-06-12, 2 items, 2 temporary items). This schedule authorizes the agency to apply the existing disposition instructions to records series regardless of the recordkeeping medium. Included are site-specific grants and other program support agreements to which the agency is a party and which support the Superfund program. Paper recordkeeping copies of these files were previously approved for disposal.

6. Environmental Protection Agency (N1-412-06-15, 5 items, 5 temporary items). This schedule authorizes the agency to apply the existing disposition instructions to records series regardless of the recordkeeping medium. Included are records created by laboratories relating to chemical analysis services performed to support Superfund remedial and removal site-specific activities. Paper recordkeeping copies of these files were previously approved for disposal.

7. Environmental Protection Agency (N1-412-06-17, 3 items, 3 temporary items). This schedule authorizes the agency to apply the existing disposition instructions to records series regardless of the recordkeeping medium. Included are Superfund site-specific contract management files, including correspondence and related records pertaining to requests for proposals, procurement award and administration, receipt, inspection and payment of contracts, and other contract matters. Paper recordkeeping copies of these files were previously approved for disposal.

8. Environmental Protection Agency (N1-412-06-18, 1 item, 1 temporary item). This schedule authorizes the agency to apply the existing disposition instructions to records series regardless of the recordkeeping medium. Included are site-specific records relating to activities undertaken to secure response costs from responsible parties at Superfund remedial and removal sites and oil spills. Records include compilations of documentation that describe technical aspects of the response action and cost accounting information necessary to document the costs incurred to implement the response action. Paper recordkeeping copies of these files were previously approved for disposal.

9. Environmental Protection Agency (N1-412-06-19, 2 items, 1 temporary item). This schedule authorizes the agency to apply the existing disposition instructions to records series regardless of the recordkeeping medium. Included are Superfund site-specific case files, covering such actions as injunctive relief, natural resource damage actions, remedial investigation/feasibility study special notices, administrative and judicial cost recovery settlements, administrative orders, and other matters. Paper recordkeeping copies of these files were previously approved for disposal. Proposed for permanent retention are landmark cases, including cases resulting in a legal precedent that establishes or affirms agency policy with respect to environmental actions of national importance, for which paper recordkeeping copies previously were approved as permanent.

10. Environmental Protection Agency (N1-412-07-25, 4 items, 2 temporary items). This schedule authorizes the agency to apply the proposed disposition instructions to any recordkeeping medium. Included are Superfund and Brownfields site assessment files, comprising site-specific records, including site discovery, preliminary assessment, site investigation and hazard ranking system package documents and other records, related to sites investigated for listing on the National Priorities List and the Brownfields program. Proposed for permanent retention are files for sites placed on the National Priorities List and for sites warranting a removal action, for which paper recordkeeping copies previously were approved as permanent.

11. National Archives and Records Administration, Government-wide (N1-GRS-07-1, 3 items, 3 temporary items). Addition to the General Records Schedules covering records relating to the planning, implementation, operation, audit or monitoring, reorganization or termination, and transaction interoperability of a public key infrastructure (PKI) system.

12. National Archives and Records Administration, Government-wide (N1-GRS-07-4, 11 items, 7 temporary items). Revision to General Records Schedule 20, Items 2, 3, and 11. The schedule revises Item 2a to provide disposal authority for non-electronic documents that are used to create electronic records, and also records not created solely for that purpose, such as reports, correspondence, memorandums, and other records that are scanned into an electronic recordkeeping system. Proposed revised Item 3 provides coverage for electronic records that replace temporary hard copy records covered by previously approved schedules that do not explicitly exclude electronic records. Revised GRS 20, Item 11, provides disposition instruction for documentation associated with electronic records. Proposed for permanent retention are hardcopy documents that NARA has specifically designated as permanent records that must be transferred to NARA in hard copy format, even if records have been copies/converted to an electronic format; hardcopy records previously approved as permanent that are converted to electronic records where the electronic records do not meet NARA's transfer standards for permanent electronic records in effect at the time of conversion; electronic records that replace hard copy records approved as permanent in a previously approved schedule; and documentation relating to electronic records that are scheduled for permanent retention in the GRS or in a NARA-approved agency schedule.

13. Social Security Administration, Office of Disability and Income Security Programs (N1-47-07-1, 1 item, 1 temporary item). Eligibility records accumulated after a determination for Medicare benefits has been made. This schedule authorizes the agency to apply the proposed disposition instructions to any recordkeeping medium.

Dated: August 1, 2007.
Michael J. Kurtz,
Assistant Archivist for Records Services—Washington, DC.

[FR Doc. E7-15610 Filed 8-8-07; 8:45 am]

BILLING CODE 7515-01-P